DEPARTMENT OF DEFENSE

Office of the Secretary

32 CFR Part 199

[RIN 0720-AA72]

TRICARE; Waiver of Certain TRICARE Deductibles; Clarification of TRICARE Prime Enrollment Period

AGENCY: Office of the Secretary, DoD.

ACTION: Proposed rule.

SUMMARY: This proposed rule implements section 714 of the National Defense Authorization Act for Fiscal Year 2000 which authorizes the Secretary of Defense to waive the TRICARE deductible in certain cases for care provided to a dependent of a member of a Reserve Component or the National Guard who is called to active duty for more than 30 days but less than one year. In implementing this rule, we are limiting this to Reserve Component and National Guard members called to active duty in support of a contingency operations. The term “contingency operations” is defined at 10 U.S.C. 101(a)(13). This proposed rule also establishes circumstances under which eligible beneficiaries may enroll in TRICARE Prime for a period of less than one year.

DATES: Public comments must be received by June 17, 2002.

ADDRESSES: Forward comments to: TRICARE Management Activity (TMA), Medical Benefits and Reimbursement Systems, 16401 East Centretech Parkway, Aurora, CO 80011-9043.

FOR FURTHER INFORMATION CONTACT: Stephen E. Isaacson, Medical Benefits and Reimbursement Systems, TMA, (303) 676-3572.

SUPPLEMENTARY INFORMATION:

Waiver of Certain TRICARE Deductibles

Often a call to active duty for a member of a Reserve Component or of the National Guard presents certain financial hardships. Dependents of these individuals become eligible for TRICARE Standard if the member is called to active duty for a period of more than 30 days. However, since they are not covered by TRICARE prior to the member's call to active duty, they generally are covered by some other health plan under which they probably have been required to pay a deductible.

In order to mitigate the hardship of having to meet a second deductible for active duty service that often is less than a year, the TRICARE deductible has been reduced or waived on two previous occasions. For dependents of active duty members of pay grade E-5 or above who served in connection with Operation Desert Shield or Operation Desert Storm, the TRICARE deductible was reduced to the lesser amounts required for active duty members of pay grade E-4 or below. For dependents of certain reserve members who were called to active duty for more than 30 days in support of Operation Joint Endeavor, the TRICARE deductible was waived.

Section 714 of the National Defense Authorization Act for Fiscal Year 2000 (Pub. L. 106-65) gives the Secretary of Defense authority to waive the TRICARE deductible for certain beneficiaries in circumstances similar to those when it was previously waived. Specifically the Secretary may waive the deductible for care provided to a dependent of: (1) A member of a Reserve Component who is called or ordered to active duty in support of a contingency operation for a period of more than 30 days but less than one year; or (2) a member of the National Guard who is called or ordered to full-time National Guard duty for a period of more than 30 days but less than one year. The proposed rule allows the family members of a Reservist or National Guard member an immediate opportunity to participate in the TRICARE program without the barrier of deductibles when the period of recall is in support of a contingency operation for more than 30 days but less than one year. Because of the nature of rapid deployments for an unspecified period of time, this change provides family-friendly coverage when we need family cooperation to respond effectively to the deployment situation. For purposes of this provision, a dependent is limited to a spouse (but not a former spouse) of the member and a child who is dependent upon the member for over one-half of the child's support as defined in §§199.3(b)(2)(ii)(A) through (b)(2)(ii)(F) and (b)(2)(ii)(H)(1), (b)(2)(ii)(H)(2) and (b)(2)(ii)(H)(4).

Enrollment in TRICARE Prime

Enrollment in TRICARE Prime normally must be for a period of one year. Section 199.17(v), provides for the establishment of administrative requirements and procedures to ensure reasonable implementation and operation of the TRICARE program. Under this authority, an exception to the one-year Prime enrollment requirement has been provided for Reservists and members of the National Guard who are called or ordered to active duty for a period of 179 days or more. A second exception has been established for those beneficiaries who are eligible to enroll in Prime but have less than one year of TRICARE eligibility remaining. For example, the dependents of an active duty member may enroll in Prime even though the member has less than one year of active duty service remaining, and the member will not be eligible for retirement at the end of the member's active duty service.

This proposed rule establishes specific regulatory authority for these exceptions.

Regulatory Procedures

Executive Order (EO) 12866 requires that a comprehensive regulatory impact analysis be performed on any economically significant regulatory action, defined as one which would result in an annual effect of $100 million or more on the national economy or which would have other substantial impacts.

The Regulatory Flexibility Act (RFA) requires that each Federal agency prepare, and make available for public comment, a regulatory flexibility analysis when the agency issues a regulation which would have a significant impact on a substantial number of small entities. We certify that this proposed rule would not significantly affect a substantial number of small entities.

This rule has been designated as significant and has been reviewed by the Office Management and Budget as required under the provisions of E.O. 12866.

Paperwork Reduction Act

This rule imposes no burden as defined by the Paperwork Reduction Act of 1995.

List of Subjects in 32 CFR Part 199

Claims, Handicapped, Health insurance, and Military personnel.

Accordingly, 32 CFR part 199 is amended as follows:

PART 199—[AMENDED]

1. The authority citation for Part 199 continues to read as follows:

Authority: 5 U.S.C. 301; 10 U.S.C. Chapter 55.

2. Section 199.4 is proposed to be amended by adding a new paragraph (f)(2)(i)(H) to read as follows.

§ 199.4 Basic program benefits.

* * * * *

(f) * * *

(2) * * *

(i) * * *

(H) The Secretary of Defense, or a designee, may waive the annual fiscal year deductible for a dependent of a member of a Reserve Component who is called or ordered to active duty for a period of more than 30 days but less than one year or a member of the National Guard who is called or ordered to full-time National Guard duty for a period of more than 30 days but less than one year, in support of a contingency operation (as defined in 10 U.S.C. 101(a)(13)) for care received on or since October 5, 1999. For purposes of this paragraph, a dependent is a spouse (but not a former spouse) of the member and a child who is dependent upon the member for over one-half of the child's support as defined in §199.3 (b)(2)(ii)(A) through (b)(2)(ii)(F) and (b)(2)(ii)(H)(1), (b)(2)(ii)(H)(2) and (b)(2)(ii)(H)(4).

* * * * *

3. Section 199.17 is proposed to be amended by revising paragraph (o)(2) to read as follows:

§ 199.17 TRICARE program.

* * * * *

(o) * * *

(2) Enrollment period.

(i) Beneficiaries who select the TRICARE Prime option remain enrolled for 12 month increments until: they take action to disenroll; they are no longer eligible for enrollment in TRICARE Prime; or they are disenrolled for failure to pay required enrollment fees. For those who remain eligible for TRICARE Prime enrollment, no later than 15 days before the expiration date of an enrollment, the sponsor will be sent a written notification of the pending expiration and renewal of the TRICARE Prime enrollment. TRICARE Prime enrollments shall be automatically renewed upon the expiration of the enrollment unless the renewal is declined by the sponsor. Termination of enrollment for failure to pay enrollment fees is addressed in paragraph (o)(3) of this section.

(ii) Exceptions to the 12-month enrollment period.

(A) Beneficiaries who are eligible to enroll in TRICARE Prime but have less than one year of TRICARE eligibility remaining may enroll.

(B) The dependents of a reservist or of a member of the National Guard who is called to active duty for a period of 179 days or more may enroll in TRICARE Prime.

* * * * *

Dated: April 11, 2002.
L.M. Bynum,
Alternate OSD Federal Register Liaison Officer, Department of Defense.

[FR Doc. 02-9244 Filed 4-17-02; 8:45 am]

BILLING CODE 5001-08-P